DEPARTMENT OF COMMERCE

International Trade Administration

[A-122-857]

Certain Softwood Lumber Products from Canada: Postponement of Preliminary Determination of Antidumping Duty Investigation

AGENCY: Enforcement and Compliance, International Trade Administration, Department of Commerce.

DATES: Effective April 19, 2017.

FOR FURTHER INFORMATION CONTACT: Jeffrey Pedersen at (202) 482-2769 or Robert Galantucci at (202) 482-2923, AD/CVD Operations, Enforcement and Compliance, U.S. Department of Commerce, 1401 Constitution Avenue NW., Washington, DC 20230.

SUPPLEMENTARY INFORMATION:

Background

On December 15, 2016, the Department of Commerce (the Department) initiated an antidumping duty investigation of certain softwood lumber products from Canada.¹ Section 733(b)(1)(A) of the Tariff Act of 1930, as amended (the Act), and 19 CFR 351.205(b)(1) state that the Department will make a preliminary determination no later than 140 days after the date of the initiation. Accordingly, the preliminary determination of this antidumping duty investigation is currently due no later than May 4, 2017.

¹ See Certain Softwood Lumber Products from Canada: Initiation of Less-Than-Fair-Value Investigation, 81 FR 93892 (December 15, 2016).

Postponement of Preliminary Determination

On March 30, 2017, the Committee Overseeing Action for Lumber International Trade Investigations or Negotiations (Petitioner) made a timely request, pursuant to 19 CFR 351.205(e), for postponement of the preliminary determination, to ensure that the Department has sufficient time to obtain and review all relevant information from the parties to this proceeding.² Because there are no compelling reasons to deny the request, in accordance with section 733(c)(1)(A) of the Act, the Department is postponing the deadline for the preliminary determination by 50 days.

² See Letter from Petitioner, “Certain Softwood Lumber Products from Canada: Petitioner's Request to Extend Preliminary Determination,” dated March 30, 2017.

For the reasons stated above, the Department, in accordance with section 733(c)(1)(A) of the Act, is postponing the deadline for the preliminary determination to no later than 190 days after the date on which the Department initiated this investigation. Therefore, the new deadline for the preliminary determination is June 23, 2017. In accordance with section 735(a)(1) of the Act, the deadline for the final determination of this investigation will continue to be 75 days after the date of the preliminary determination, unless postponed at a later date.

This notice is issued and published pursuant to section 733(c)(2) of the Act and 19 CFR 351.205(f)(1).

Dated: April 14, 2017.
Gary Taverman,
Associate Deputy Assistant Secretary for Antidumping and Countervailing Duty Operations.

[FR Doc. 2017-07922 Filed 4-18-17; 8:45 am]

BILLING CODE 3510-DS-P